DEPARTMENT OF AGRICULTURE

Submission for OMB Review; Comment Request

April 27, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 1, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency, informs potential persons who are to respond to the collection of information that such persons are not required to respond to the collection of information unless it displays a currently valid OMB control number.

Food and Nutrition Service

Title: Modernizing Channels of Communication with SNAP Participants.

OMB Control Number: 0584-NEW.

Summary of Collection: Section 17 [7 U.S.C. 2026] (a)(1) of the Food and Nutrition Act of 2008, as amended, provides general legislative authority for the planned data collection. It authorizes the Secretary of Agriculture to enter into contracts with private institutions to undertake research that will help improve the administration and effectiveness of Supplemental Nutrition Assistance Program (SNAP) agencies in delivering nutrition-related benefits.

The primary purpose of the study is to highlight best practices and lessons learned from various mobile communication strategies (MCS) implemented by State SNAP agencies. This examination will help FNS and States improve communication and identify best practices that lead to improved program outcomes.

Need and Use of the Information: Food and Nutrition Service (FNS) needs this study to determine best practices and lessons learned from various mobile communication strategies MCS tested and implemented by State SNAP agencies. This information will be used to help FNS and States improve communication and identify best practices that lead to improved program outcomes. This data will provide information on States' and program recipients' use of MCS and client satisfaction with and perspectives of MCS.

Description of Respondents: 336 Individuals or households; 30 Business-for-or-not for-profit organizations; 67 State, Local or Tribal Government.

Number of Respondents: 433.

Frequency of Responses: Reporting: Once.

Total Burden Hours: 315.

Ruth Brown,
Departmental Information Collection Clearance Officer.

[FR Doc. 2020-09198 Filed 4-29-20; 8:45 am]

BILLING CODE 3410-30-P